SMALL BUSINESS ADMINISTRATION

[Disaster Declaration #16592; South Carolina Disaster Number SC-00074 Declaration of Economic Injury]

Administrative Declaration of an Economic Injury Disaster for the State of South Carolina

AGENCY: U.S. Small Business Administration.

ACTION: Notice.

SUMMARY: This is a notice of an Economic Injury Disaster Loan (EIDL) declaration for the State of South Carolina, dated 08/17/2020.

Incident: Civil Unrest.

Incident Period: 05/28/2020 through 06/30/2020.

DATES: Issued on 08/17/2020.

Economic Injury (EIDL) Loan Application Deadline Date: 05/17/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations. The following areas have been determined to be adversely affected by the disaster:

Primary Counties: Charleston.

Contiguous Counties:

South Carolina: Berkeley, Colleton, Dorchester, Georgetown.

The Interest Rates are:

| Percent
Businesses and Small Agricultural Cooperatives Without Credit Available Elsewhere | 3.000
Non-Profit Organizations Without Credit Available Elsewhere | 2.750

The number assigned to this disaster for economic injury is 165920.

The State which received an EIDL Declaration # is South Carolina.

(Catalog of Federal Domestic Assistance Number 59008)

Jovita Carranza,
Administrator.

[FR Doc. 2020-18555 Filed 8-24-20; 8:45 am]

BILLING CODE 8026-03-P